DEPARTMENT OF COMMERCE

International Trade Administration

[A-570-848]

Freshwater Crawfish Tail Meat From the People's Republic of China: Initiation of Antidumping Duty New Shipper Reviews

AGENCY: Import Administration, International Trade Administration, Department of Commerce.

SUMMARY: The Department of Commerce (“Department”) has received timely requests to conduct new shipper reviews of the antidumping duty order on freshwater crawfish tail meat from the People's Republic of China (“PRC”). In accordance with 19 CFR 351.214(d), we are initiating reviews for Nanjing Merry Trading Co., Ltd. (Nanjing Merry), Leping Lotai Foods Co., Ltd. (Leping Lotai), and Weishan Hongrun Aquatic Food Co., Ltd. (Weishan Hongrun).

EFFECTIVE DATE: May 5, 2006.

FOR FURTHER INFORMATION CONTACT: Erin C. Begnal or Scot T. Fullerton, AD/CVD Operations, Office 9, Import Administration, International Trade Administration, U.S. Department of Commerce, 14th Street and Constitution Avenue, NW., Washington, DC 20230; telephone: (202) 482-1442 or (202) 482-1386, respectively.

SUPPLEMENTARY INFORMATION:

Background

The Department received timely requests from Nanjing Merry and Leping Lotai on March 27, 2006, and from Weishan Hongrun on March 31, 2006, pursuant to section 751(a)(2)(B) of the Tariff Act of 1930, as amended (“the Act”), and in accordance with 19 CFR 351.214(c), for new shipper reviews of the antidumping duty order on freshwater crawfish tail meat from the PRC.¹ See Notice of Amendment to Final Determination of Sales at Less than Fair Value and Antidumping Duty Order: Freshwater Crawfish Tail Meat from the People's Republic of China, 62 FR 48218 (September 15, 1997).

¹ Dafeng Shengxiang Aquatic Foods Company Ltd. requested a new shipper review on March 31, 2006. However, on April 11, 2006, Dafeng Shengxiang Aquatic Foods Company Ltd. withdrew its request.

Pursuant to 19 CFR 351.214(b)(2)(i), 19 CFR 351.214(b)(2)(ii)(A), and 19 CFR 351.214(b)(2)(iii)(A), in their requests for review, Nanjing Merry, Leping Lotai, and Weishan Hongrun certified that they did not export the subject merchandise to the United States during the period of investigation (POI) and that since the initiation of the investigation they have never been affiliated with any company which exported subject merchandise to the United States during the POI. Furthermore, pursuant to 19 CFR 351.214(b)(2)(ii)(B) and 19 CFR 351.214(b)(2)(iii)(A), Anhui Hengda Foodstuffs Co. Ltd. (“Anhui Hengda”), Nanjing Merry's producer, certified that it did not export the subject merchandise to the United States during the POI and that since the initiation of the investigation it has never been affiliated with any company which exported subject merchandise to the United States during the POI.² Additionally, pursuant to 19 CFR 351.214(b)(2)(iii)(B), Nanjing Merry, Leping Lotai, and Weishan Hongrun further certified that their export activities are not controlled by the central government of the PRC.

² Anhui Hengda amended its certification in order to comply with the Department's regulations on April 24, 2006.

In accordance with 19 CFR 351.214(b)(2)(iv), Nanjing Merry, Leping Lotai, and Weishan Hongrun each submitted documentation establishing the following: (1) the date on which it first shipped subject merchandise for export to the United States and the date on which the subject merchandise was first entered, or withdrawn from warehouse, for consumption; (2) the volume of its first shipment; and (3) the date of its first sale to an unaffiliated customer in the United States.

Initiation of Reviews

In accordance with section 751(a)(2)(B) of the Act, and 19 CFR 351.214(d)(1), and based on information on the record, we are initiating new shipper reviews for Nanjing Merry, Leping Lotai, and Weishan Hongrun. See Memoranda to the File through James C. Doyle, New Shipper Initiation Checklists, dated April 28, 2006. We intend to issue the preliminary results of this review not later than 180 days after the date on which this review was initiated, and the final results of this review within 90 days after the date on which the preliminary results were issued.

Pursuant to 19 CFR 351.214(g)(1)(i)(B), the period of review (“POR”) for a new shipper review, initiated in the month immediately following the semiannual anniversary month, will be the six-month period immediately preceding the semiannual anniversary month. Therefore, the POR for the new shipper reviews of Nanjing Merry, Leping Lotai, and Weishan Hongrun will be September 1, 2005, through February 28, 2006.

It is the Department's usual practice in cases involving non-market economies to require that a company seeking to establish eligibility for an antidumping duty rate separate from the country-wide rate provide evidence of de jure and de facto absence of government control over the company's export activities. Accordingly, we will issue questionnaires to Nanjing Merry, Leping Lotai, and Weishan Hongrun, including a separate rates section. The reviews will proceed if the responses provide sufficient indication that Nanjing Merry, Leping Lotai, and Weishan Hongrun are not subject to either de jure or de facto government control with respect to their exports of freshwater crawfish tail meat. However, if the exporter does not demonstrate the company's eligibility for a separate rate, then the company will be deemed not separate from the PRC-wide entity, which exported during the POI. An exporter unable to demonstrate the company's eligibility for a separate rate would hence not meet the requirements of CFR 351.214(b)(2)(iii) and its new shipper review will be rescinded. See, e.g., Notice of Preliminary Results of Antidumping Duty New Shipper Review and Rescission of New Shipper Reviews: Freshwater Crawfish Tail Meat from the People's Republic of China, 69 FR 53669 (September 2, 2004); see also Brake Rotors From the People's Republic of China: Rescission of Second New Shipper Review and Final Results and Partial Rescission of First Antidumping Duty Administrative Review, 64 FR 61581 (November 12, 1999).

In accordance with section 751(a)(2)(B)(iii) of the Act and 19 CFR 351.214(e), we will instruct U.S. Customs and Border Protection to allow, at the option of the importer, the posting, until the completion of the review, of a single entry bond or security in lieu of a cash deposit for certain entries of the merchandise exported by either Nanjing Merry, Leping Lotai, and Weishan Hongrun. We will apply the bonding option under 19 CFR 351.107(b)(1)(i) only to entries from the producer/exporter combination for which these companies have requested a new shipper review, i.e., Nanjing Merry/Anhui Hengda, Leping Lotai/Leping Lotai, and Weishan Hongrun/Weishan Hongrun.

Interested parties that need access to proprietary information in these new shipper reviews should submit applications for disclosure under administrative protective orders in accordance with 19 CFR 351.305 and 351.306.

This initiation and notice are issued and published in accordance with section 751(a) of the Act (19 U.S.C. 1675(a)), 19 CFR 351.214(d) and 19 CFR 351.221(b)(1).

Dated: April 28, 2006.
Stephen J. Claeys,
Deputy Assistant Secretary for Import Administration.

[FR Doc. E6-6880 Filed 5-4-06; 8:45 am]

BILLING CODE 3510-DS-S